DEPARTMENT OF THE TREASURY

Internal Revenue Service

Open Meeting of the Taxpayer Advocacy Panel Taxpayer Assistance Center Improvements Project Committee; Correction

AGENCY: Internal Revenue Service (IRS), Treasury.

ACTION: Notice of meeting; correction.

SUMMARY: In the Federal Register notice that was originally published on December 10, 2014, (Volume 79, Number 237, Page 73404) the meeting location was inadvertently omitted. The location of the meeting is: Atlanta, Georgia.

DATES: The meetings will be held Thursday, January 15, 2015 and Friday January 16, 2015.

FOR FURTHER INFORMATION CONTACT: Robin Owsley at 1-888-912-1227 or (317) 685-7627.

SUPPLEMENTARY INFORMATION: Notice is hereby given pursuant to Section 10(a)(2) of the Federal Advisory Committee Act, 5 U.S.C. App. (1988) that an open meeting of the Taxpayer Advocacy Panel Taxpayer Assistance Center Improvements Project Committee will be held Thursday, January 15, 2015 from 8:00 a.m. to 4:30 p.m. and Friday, January 16, 2015, from 8:00 a.m. to 12:00 p.m. Eastern Time in Atlanta, Georgia. The public is invited to make oral comments or submit written statements for consideration. Notification of intent to participate must be made with Robin Owsley. For more information please contact: Robin Owsley at 1-888-912-1227 or (317) 685-7627or write: TAP Office, 575 N. Pennsylvania, Indianapolis, IN 46204 or contact us at the Web site: http://www.improveirs.org.

The agenda will include various issues related to services provided by the Taxpayer Assistance Centers. Public input is welcomed.

Dated: December 16, 2014.
Otis Simpson,
Acting Director, Taxpayer Advocacy Panel.

[FR Doc. 2014-29937 Filed 12-22-14; 8:45 am]

BILLING CODE 4830-01-P